DEPARTMENT OF ENERGY

[FE Docket No. 01-25-NG, 01-27-NG, 01-26-NG, 01-30-NG, 01-14-NG, 01-29-NG, 01-33-NG, 01-31-NG, 01-34-NG]

Office of Fossil Energy; Pan-Alberta Gas (U.S.) Inc.; et. al.; Orders Granting and Amending Authority to Import and Export Natural Gas

AGENCY: Office of Fossil Energy, DOE.

ACTION: Notice of orders.

SUMMARY: The Office of Fossil Energy (FE) of the Department of Energy gives notice that during June 2001, it issued Orders granting and amending authority to import and export natural gas. These Orders are summarized in the attached appendix and may be found on the FE web site at http://www.fe.doe.gov, or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8:00 a.m. and 4:30 p.m., Monday through Friday, except Federal holidays.

Issued in Washington, DC, on July 9, 2001.
Clifford P. Tomaszewski,
Manager, Natural Gas Regulation, Office of Natural Gas & Petroleum Import & Export Activities, Office of Fossil Energy.

Appendix—Orders Granting and Amending Import/Export Authorizations

[DOE/FE authority]
Order No. | Date issued | Importer/exporter FE Docket No. | Import volume | Export volume | Comments
1688 | 06-07-01 | Pan-Alberta Gas (U.S.) Inc.; 01-25-NG | 730 Bcf |  | Import from Canada beginning on July 4, 2001, and extending through July 3, 2003.
1689 | 06-13-01 | Dartmouth Power Associates Limited Partnership; 01-27-NG | 11.68 Bcf |  | Import from Canada beginning on May 7, 2001, and extending through May 6, 2003.
1690 | 06-13-01 | Pawtucket Power Associates Limited Partnership; 01-26-NG | 10.584 Bcf |  | Import from Canada beginning on May 31, 2001, and extending through May 30, 2003.
1691 | 06-21-01 | AEC Marketing (USA) Inc.; 01-30-NG | 200 Bcf |  | Import from Canada beginning on June 30, 2001, and extending through June 29, 2003.
1677-A | 06-21-01 | AltaGas Marketing (U.S.) Inc.; 01-14-NG |  | 15 Bcf | Amendment to Import authority to include exports to Canada, over a two-year term beginning on the date of first delivery.
1692 | 06-25-01 | Cascade Natural Gas Corporation; 01-29-NG | 100 Bcf |  | Import from Canada beginning on July 1, 2001, and extending through June 30, 2003.
1693 | 06-25-01 | Dynegy Power Marketing, Inc.; 01-33-NG | 600 Bcf | 330 Bcf | Import a combined total from Canada and Mexico, and export a combined total to Canada and Mexico beginning on June 25, 2001, and extending through June 24, 2003.
1695 | 06-26-01 | Coral Canada US Inc.; 01-31-NG | 350 Bcf | 350 Bcf | Import and export from and to Canada, over a two-year term beginning on the date of first delivery.
1696 | 06-28-01 | Sithe/Independence Power Partners, LP; 01-34-NG | 60 Bcf |  | Import from Canada beginning on July 1, 2001, and extending through June 30, 2003.

[FR Doc. 01-17548 Filed 7-12-01; 8:45 am]

BILLING CODE 6450-01-P